FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 6 of the Act (12 U.S.C. 1817(j)(6)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 6 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC, 20551-0001, not later than August 7, 2024.

A. Federal Reserve Bank of Kansas City (Jeffrey Imgarten, Assistant Vice President) 1 Memorial Drive, Kansas City, Missouri 64198-0001. Comments can also be sent electronically to KCApplicationComments@kc.frb.org:

1. Richard W. Robirds, Sterling, Colorado, as co-trustee with Farmers State Bank of Brush, Brush, Colorado, of the Testamentary Trust created by the Last Will and Testament of Alonzo Petteys, Deceased, Dated 8/21/1964, and the Robert A. Petteys Trust; as members of the Petteys Family Control Group, to acquire voting shares of The Farmers Realty Company, Brush, Colorado, and thereby indirectly acquire shares of Equitable Savings and Loan Association, Sterling, Colorado. In addition, Judith A. Gunnon, Rochester, Minnesota, as trustee of the Judith A. Gunnon Trust; Carol J. Tomasini, Kittredge, Colorado; Julia A. Casto, Boxford, Massachusetts; Christian R. Gunnon, Maple Grove, Minnesota; John A. Gunnon, Rochester, Minnesota; Cynthia C. Sprenger, Auburn, Washington, Leslie Petteys, Huntington, West Virginia, as trustee of the Petteys Family Trust FBO Leslie Petteys, and Tom Petteys, Sheridan, Colorado, as trustee of the Petteys Family Trust FBO Tom Petteys, to retain shares of The Farmers Realty Company and join the Petteys Family Control Group.

Board of Governors of the Federal Reserve System.
Erin Cayce,
Assistant Secretary of the Board.

[FR Doc. 2024-16165 Filed 7-22-24; 8:45 am]

BILLING CODE P